DEPARTMENT OF COMMERCE

International Trade Administration

[A-580-880, A-201-847, A-489-824]

Heavy Walled Rectangular Welded Carbon Steel Pipes and Tubes From the Republic of Korea, Mexico, and the Republic of Turkey: Antidumping Duty Orders

AGENCY: Enforcement and Compliance, International Trade Administration, Department of Commerce.

SUMMARY: Based on affirmative final determinations by the Department of Commerce (the Department) and the International Trade Commission (the ITC), the Department is issuing antidumping duty orders on heavy walled rectangular welded carbon steel pipes and tubes from the Republic of Korea (Korea), Mexico, and the Republic of Turkey (Turkey).

DATES: Effective September 13, 2016.

FOR FURTHER INFORMATION CONTACT: Alice Maldonado (Korea), David Crespo (Mexico), or Ross Belliveau (Turkey), AD/CVD Operations, Office II, Enforcement and Compliance, International Trade Administration, U.S. Department of Commerce, 1401 Constitution Avenue NW., Washington, DC 20230; telephone: (202) 482-4682, (202) 482-3693, and, (202) 482-4952 respectively.

SUPPLEMENTARY INFORMATION:

Background

In accordance with sections 735(d) and 777(i)(1) of the Tariff Act of 1930, as amended (the Act), and 19 CFR 351.210(c), on July 21, 2016, the Department published its affirmative final determinations in the less-than-fair-value (LTFV) investigations of heavy walled rectangular welded carbon steel pipes and tubes from Korea, Mexico, and Turkey.¹ On September 6, 2016, the ITC notified the Department of its affirmative determinations that an industry in the United States is materially injured within the meaning of section 735(b)(1)(A)(i) of the Act, by reason of the LTFV imports of heavy walled rectangular welded carbon steel pipes and tubes from Korea, Mexico, and Turkey.²

¹ See Heavy Walled Rectangular Welded Carbon Steel Pipes and Tubes From The Republic of Korea: Final Determination of Sales Less Than Fair Value, 81 FR 47347 (July 21, 2016) (Korea Final Determination), Heavy Walled Rectangular Welded Carbon Steel Pipes and Tubes From Mexico: Final Determination of Sales Less Than Fair Value, 81 FR 47352 (July 21, 2016) (Mexico Final Determination), and Heavy Walled Rectangular Welded Carbon Steel Pipes and Tubes From The Republic of Turkey: Final Determination of Sales Less Than Fair Value, 81 FR 47355 (July 21, 2016) (Turkey Final Determination).

² See ITC Notification Letter to the Deputy Assistant Secretary for Enforcement and Compliance, referencing ITC Investigation Nos. 701-TA-539 and 731-TA-1280-1282 (September 6, 2016) (ITC Notification).

Scope of the Orders

The merchandise covered by these orders is certain heavy walled rectangular welded steel pipes and tubes of rectangular (including square) cross section, having a nominal wall thickness of not less than 4 mm. The merchandise includes, but is not limited to, the American Society for Testing and Materials (ASTM) A-500, grade B specifications, or comparable domestic or foreign specifications.

Included products are those in which: (1) Iron predominates, by weight, over each of the other contained elements; (2) the carbon content is 2 percent or less, by weight; and (3) none of the elements below exceeds the quantity, by weight, respectively indicated:

• 2.50 percent of manganese, or

• 3.30 percent of silicon, or

• 1.50 percent of copper, or

• 1.50 percent of aluminum, or

• 1.25 percent of chromium, or

• 0.30 percent of cobalt, or

• 0.40 percent of lead, or

• 2.0 percent of nickel, or

• 0.30 percent of tungsten, or

• 0.80 percent of molybdenum, or

• 0.10 percent of niobium (also called columbium), or

• 0.30 percent of vanadium, or

• 0.30 percent of zirconium.

The subject merchandise is currently provided for in item 7306.61.1000 of the Harmonized Tariff Schedule of the United States (HTSUS). Subject merchandise may also enter under HTSUS 7306.61.3000. While the HTSUS subheadings and ASTM specification are provided for convenience and customs purposes, the written description of the scope of this investigation is dispositive.

Antidumping Duty Orders

As stated above, on September 6, 2016, in accordance with section 735(d) of the Act, the ITC notified the Department of its final determinations in these investigations, in which it found material injury with respect to heavy walled rectangular welded carbon steel pipes and tubes from Korea, Mexico, and Turkey.³ Therefore, in accordance with section 735(c)(2) of the Act, we are issuing these antidumping duty orders. Because the ITC determined that imports of heavy walled rectangular welded carbon steel pipes and tubes from Korea, Turkey, and Mexico are materially injuring a U.S. industry, unliquidated entries of such merchandise from Korea, Mexico, and Turkey entered or withdrawn from warehouse for consumption, are subject to the assessment of antidumping duties.

³ Id.

Therefore, in accordance with section 736(a)(1) of the Act, the Department will direct U.S. Customs and Border Protection (CBP) to assess, upon further instruction by the Department, antidumping duties equal to the amount by which the normal value of the merchandise exceeds the export price (or constructed export price) of the merchandise, for all relevant entries of heavy walled rectangular welded carbon steel pipes and tubes from Korea, Mexico, and Turkey. Antidumping duties will be assessed on unliquidated entries of heavy walled rectangular welded carbon steel pipes and tubes from Korea, Mexico, and Turkey entered, or withdrawn from warehouse, for consumption on or after March 1, 2016, the date of publication of the preliminary determinations,⁴ but will not include entries occurring after the expiration of the provisional measures period and before publication of the ITC's final injury determinations as further described below.

⁴ See Heavy Walled Rectangular Welded Carbon Steel Pipes and Tubes From The Republic of Korea: Preliminary Determination of Sales Less Than Fair Value and Postponement of Final Determination, 81 FR 10585 (March 1, 2016) (Korea Preliminary Determination), Heavy Walled Rectangular Welded Carbon Steel Pipes and Tubes From Mexico: Affirmative Preliminary Determination of Sales Less Than Fair Value and Postponement of Final Determination, 81 FR 10587 (March 1, 2016) (Mexico Preliminary Determination), and Heavy Walled Rectangular Welded Carbon Steel Pipes and Tubes From The Republic of Turkey: Preliminary Determination of Sales Less Than Fair Value and Postponement of Final Determination, 81 FR 10583 (March 1, 2016) (Turkey Preliminary Determination).

Suspension of Liquidation

In accordance with section 735(c)(1)(B) of the Act, we will instruct CBP to continue to suspend liquidation on all relevant entries of heavy walled rectangular welded carbon steel pipes and tubes from Korea, Mexico, and Turkey. In the Turkey Final Determination the Department calculated a zero percent margin for Ozdemir Boru Profil San. Ve Tic. Ltd. Sti. (Ozdemir). Accordingly, Ozdemir is excluded from the antidumping duty order, and no suspension of liquidation is required for heavy walled rectangular welded carbon steel pipes and tubes from Turkey produced and exported by Ozdemir. These instructions suspending liquidation will remain in effect until further notice.

We will also instruct CBP to require cash deposits equal to the amounts as indicated below. Accordingly, effective on the date of publication of the ITC's final affirmative injury determinations, CBP will require, at the same time as importers would normally deposit estimated duties on this subject merchandise, a cash deposit equal to the estimated weighted-average dumping margins listed below.⁵ The relevant all-others rates apply to all producers or exporters not specifically listed. For the purpose of determining cash deposit rates, the estimated weighted-average dumping margins for imports of subject merchandise from Turkey will be adjusted, as appropriate, for export subsidies found in the final determination of the companion countervailing duty investigation of this merchandise imported from Turkey.⁶

⁵ See section 736(a)(3) of the Act.

⁶ See Turkey Final Determination, 81 FR at 47356.

Provisional Measures

Section 733(d) of the Act states that instructions issued pursuant to an affirmative preliminary determination may not remain in effect for more than four months, except where exporters representing a significant proportion of exports of the subject merchandise request the Department to extend that four-month period to no more than six months. At the request of exporters that account for a significant proportion of heavy walled rectangular welded carbon steel pipes and tubes from Korea, Mexico, and Turkey, we extended the four-month period to six months in each case.⁷ In the underlying investigations, the Department published the preliminary determinations on March 1, 2016. Therefore, the extended period, beginning on the date of publication of the preliminary determinations, ended on August 28, 2016. Furthermore, section 737(b) of the Act states that definitive duties are to begin on the date of publication of the ITC's final injury determination.

⁷ See Korea Preliminary Determination, Mexico Preliminary Determination, and Turkey Preliminary Determination.

Therefore, in accordance with section 733(d) of the Act and our practice, we will instruct CBP to terminate the suspension of liquidation and to liquidate, without regard to antidumping duties, unliquidated entries of heavy walled rectangular welded carbon steel pipes and tubes from Korea, Mexico, and Turkey entered, or withdrawn from warehouse, for consumption on or after August 28, 2016, the date on which the provisional measures expired, until and through the day preceding the date of publication of the ITC's final injury determinations in the Federal Register. Suspension of liquidation will resume on the date of publication of the ITC's final determinations in the Federal Register.

The weighted-average dumping margins are as follows:

| Exporter/producer | Dumping margins (percent)
Korea | Dong-A Steel Company | 2.34
| HiSteel Co., Ltd | 3.82
| All Others | 3.24
Mexico | Maquilacero S.A. de C.V | 3.83
| Productos Laminados de Monterrey S.A. de C.V | 5.21
| All Others | 4.91

| Exporter/producer | Dumping margins (percent) | Cash deposit (percent)
Turkey | MMZ Boru Profil Uretim Sanayi Ve Tic. A.S | 35.66 | 35.66
| All Others | 17.83 | 17.73
Note: In the Turkey Final Determination, we adjusted the all-others cash deposit rate by 0.10 percent to account for the export subsidies included in the all-others rate calculated in the companion countervailing duty investigation. See Memorandum to the File from Rebecca Trainor, “Calculation of the All-Others Rate,” dated July 14, 2016, which is on the record of the LTFV investigation of heavy walled rectangular welded carbon steel pipes and tubes from Turkey.

This notice constitutes the antidumping duty orders with respect to heavy walled rectangular welded carbon steel pipes and tubes from Korea, Mexico, and Turkey pursuant to section 736(a) of the Act. Interested parties can find a list of antidumping duty orders currently in effect at http://enforcement.trade.gov/stats/iastats1.html.

These orders are published in accordance with section 736(a) of the Act and 19 CFR 351.211(b).

Dated: September 7, 2016.
Christian Marsh,
Deputy Assistant Secretary for Antidumping and Countervailing Duty Operations.

[FR Doc. 2016-22003 Filed 9-12-16; 8:45 am]

BILLING CODE 3510-DS-P